DEPARTMENT OF HOMELAND SECURITY

Federal Emergency Management Agency

[Docket ID: FEMA-2010-0058]

Agency Information Collection Activities: Submission for OMB Review; Comment Request, OMB No. 1660-0013; Exemption of State-Owned Properties Under Self-Insurance Plan

AGENCY: Federal Emergency Management Agency, DHS.

ACTION: Notice; 30-day notice and request for comments; extension, without change, of a currently approved information collection; OMB No. 1660-0013; No Form.

SUMMARY: The Federal Emergency Management Agency (FEMA) will submit the abstracted information collection to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 14, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to 202-395-5806.

FOR FURTHER INFORMATION CONTACT: Requests for additional information or copies of the information collection should be made to Director, Records Management Division, 1800 South Bell Street, Arlington, VA 20598-3005, facsimile number 202-646-3347, or e-mail address FEMA-Information-Collections-Management@dhs.gov.

SUPPLEMENTARY INFORMATION:

Collection of Information

Title: Exemption of State-Owned Properties Under Self-Insurance Plan.

Type of Information Collection: Extension, without change, of a currently approved information collection.

OMB Number: 1660-0013.

Form Titles and Numbers: No Forms.

Abstract: States can request an exemption to the requirement of purchasing flood insurance on State-owned properties through the submission of sufficient supporting documentation certifying that the plan of self-insurance upon which the application for exemption is based meets or exceed the standards of coverage required for flood and flood-related hazards.

Affected Public: State, local, or Tribal Government.

Estimated Number of Respondents: 20.

Frequency of Response: Once.

Estimated Average Hour Burden per Respondent: 5 hours.

Estimated Total Annual Burden Hours: 100 hours.

Estimated Cost: There is no capital, start-up, operation or maintenance cost associated with this collection.

Dated: February 4, 2011.
Lesia M. Banks,
Director, Records Management Division, Mission Support Bureau, Federal Emergency Management Agency, Department of Homeland Security.

[FR Doc. 2011-3028 Filed 2-9-11; 8:45 am]

BILLING CODE 9110-11-P